DEPARTMENT OF THE INTERIOR

National Park Service

[NPS-WASO-NAGPRA-18031;PPWOCRADN0-PCU00RP14.R50000]

Notice of Inventory Completion: U.S. Department of the Interior, Bureau of Indian Affairs, Washington, DC, and the Thomas Burke Memorial Washington State Museum, University of Washington, Seattle, WA

AGENCY: National Park Service, Interior.

ACTION: Notice.

SUMMARY: The U.S. Department of the Interior, Bureau of Indian Affairs, and the Thomas Burke Memorial Washington State Museum, University of Washington (Burke Museum), have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the Bureau of Indian Affairs. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Bureau of Indian Affairs at the address in this notice by May 28, 2015.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the completion of an inventory of human remains and associated funerary objects under the control of the U.S. Department of the Interior, Bureau of Indian Affairs and in the physical custody of the Burke Museum. The human remains and associated funerary objects were removed from Clallam County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the U.S. Department of the Interior, Bureau of Indian Affairs and the Burke Museum professional staff in consultation with representatives of the Makah Indian Tribe of the Makah Indian Reservation.

History and Description of the Remains

In September 1963, human remains representing, at minimum, five individuals were removed from site 45-CA-26 on the Pacific Ocean Beach near Neah Bay adjacent to Makah Bay, Clallam County, WA. The site (45-CA-26) is located within the current boundaries of the Makah Indian Reservation. In or about September 1963, Robert E. Greengo of the Thomas Burke Memorial Washington State Museum was directed to the site by Mrs. Otis Baxter who advised that the wind had been blowing material out of the cut bank. Dr. Greengo found exposed human bones and other items that had been disturbed by the action of the surf and/or wind. Dr. Greengo returned in October 1963, in the company of Mr. and Mrs. Otis Baxter and collected bones and objects from the location that turned out to be site 45-CA-26. The collection has been housed at the Burke Museum since 1963. No known individuals were identified. The two associated funerary objects are an elk bone and a small bag of sand and crushed bone.

Geographic, historic, and anthropological evidence indicates that the human remains are Native American. The site (45-CA-26) is a shell midden site located within the current boundaries of the Makah Indian Reservation. Burial of human remains in or near shell middens is consistent with Native American burial practices in the Pacific Northwest. This area was historically and prehistorically occupied by the Makah people for at least the past 4,000 years.

Determinations Made by the Bureau of Indian Affairs and the Burke Museum

Officials of the Bureau of Indian Affairs and the Burke Museum have determined that:

• Pursuant to 25 U.S.C. 3001(9), the human remains described in this notice represent the physical remains of five individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and the Makah Indian Tribe of the Makah Indian Reservation.

Additional Requestors and Disposition

Lineal descendants or representatives of any Indian tribe or Native Hawaiian organization not identified in this notice that wish to request transfer of control of these human remains and associated funerary objects should submit a written request with information in support of the request to Anna Pardo, Museum Program Manager/NAGPRA Coordinator, U.S. Department of the Interior, Bureau of Indian Affairs, 12220 Sunrise Valley Drive, Room 6084, Reston, VA 20191, telephone (703) 390-6343, email Anna.Pardo@bia.gov, by May 28, 2015. After that date, if no additional requestors have come forward, transfer of control of the human remains and associated funerary objects to the Makah Indian Tribe of the Makah Indian Reservation may proceed.

The Bureau of Indian Affairs is responsible for notifying the Makah Indian Tribe of the Makah Indian Reservation that this notice has been published.

Dated: April 1, 2015.
Mariah Soriano,
Acting Manager, National NAGPRA Program.

[FR Doc. 2015-09912 Filed 4-27-15; 8:45 am]

BILLING CODE 4312-50-P